DEPARTMENT OF COMMERCE

Foreign-Trade Zones Board

[B-54-2023]

Foreign-Trade Zone (FTZ) 26, Notification of Proposed Production Activity; Helena Industries, LLC; (Insecticides); Cordele, Georgia

Helena Industries, LLC, submitted a notification of proposed production activity to the FTZ Board (the Board) for its facilities in Cordele, Georgia within FTZ 26. The notification conforming to the requirements of the Board's regulations (15 CFR 400.22) was received on October 19, 2023.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished product is thiamethoxam 240 grams/liter suspended concentrate (duty rate 5%).

The proposed foreign-status material/component is thiamethoxam (insecticide active ingredient) (duty rate 6.5%). The request indicates that thiamethoxam (insecticide active ingredient) is subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is December 4, 2023.

A copy of the notification will be available for public inspection in the “Online FTZ Information System” section of the Board's website.

For further information, contact Christopher Wedderburn at Chris.Wedderburn@trade.gov.

Dated: October 20, 2023.
Elizabeth Whiteman,
Executive Secretary.

[FR Doc. 2023-23610 Filed 10-24-23; 8:45 am]

BILLING CODE 3510-DS-P